DEPARTMENT OF TRANSPORTATION

Federal Aviation Administration

14 CFR Part 71

[Docket No. FAA-2011-0010; Airspace Docket No. 11-AAL-1]

Amendment of Federal Airways; Alaska

AGENCY: Federal Aviation Administration (FAA), DOT.

ACTION: Final rule; announcement of effective date.

SUMMARY: This action announces the effective date of a final rule published in the Federal Register of April 28, 2011 that amends Federal airways in Alaska. The FAA subsequently published a rule in the Federal Register of June 16, 2011 that delayed the effective date until further notice. An amendment, published in the Federal Register of October 20, 2011, further modified the rule. This action is the result of satisfactory flight inspections for the Federal airways affected by the relocation of the Anchorage VHF Omnidirectional Range (VOR).

DATES: Effective date 0901 UTC. This announcement is effective February 9, 2012. The effective date of FR Doc. 2011-10240, published on April 28, 2011 (FR 76 23687), delayed by FR Doc. 2011-14711, published on June 16, 2011, and amended by FR Doc. 2011-27118, published October 20, 2011 (FR 76 65106) is February 9, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Mission Support Services, Federal Aviation Administration, 800 Independence Avenue SW., Washington, DC 20591; telephone: (202) 267-8783.

SUPPLEMENTARY INFORMATION:

Background

Federal Register Document FAA-2011-0010, Airspace Docket No. 11-AAL-1, published on April 28, 2011 (76 FR 23687), amends all Federal airways affected by the relocation of the Anchorage VOR navigation aid effective June 30, 2011. Due to a failed flight inspection, the FAA subsequently published in the Federal Register of June 16, 2011 a rule delaying the effective date from June 30, 2011, until further notice (76 FR 35097). Upon further inspection, the FAA removed two Federal airways in an amendment published in the Federal Register of October 20, (76 FR 65106). Two Federal airways were removed to be reworked as a separate rulemaking action. Satisfactory flight inspection results for the remaining Federal airways contained in the rule, as delayed and amended, have been accomplished the effective date is now established.

The FAA has determined that this regulation only involves an established body of technical regulations for which frequent and routine amendments are necessary to keep them operationally current. Therefore, this regulation (1) Is not a significant regulatory action under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies federal airways in Alaska.

List of Subjects in 14 CFR Part 71

Airspace, Incorporation by reference, Navigation (air).

PART 71—AMENDED

Announcement of Effective Date

The effective date of Airspace Docket No. 11-AAL-1, published on April 28, 2011 (76 FR 23687), delayed on June 16, 2011 (76 FR 35097), and amended on October 20, 2011 (76 FR 65106) is hereby established as February 9, 2012.

Authority: 49 U.S.C. 106(g), 40103, 40113, 40120; E.O. 10854, 24 FR 9565, 3 CFR, 1959-1963 Comp., p. 389.

Issued in Washington, DC, on November 30, 2011.
Gary A. Norek,
Acting Manager, Airspace, Regulations and ATC Procedures Group.

[FR Doc. 2011-31461 Filed 12-8-11; 8:45 am]

BILLING CODE 4910-13-P